DEPARTMENT OF COMMERCE

National Institute of Standards and Technology

Notice of Jointly Owned Invention Available for Licensing

AGENCY: National Institute of Standards and Technology, Commerce.

ACTION: Notice of Jointly Owned Invention Available for Licensing.

SUMMARY: The invention listed below is owned in part by the U.S. Government, as represented by the Department of Commerce, and JILA/University of Colorado. The Department of Commerce's interest in the invention is available for licensing in accordance with 35 U.S.C. 207 and 37 CFR part 404 to achieve expeditious commercialization of results of federally funded research and development.

FOR FURTHER INFORMATION CONTACT: Technical and licensing information on the invention may be obtained by writing to: National Institute of Standards and Technology, Technology Partnerships Division, Attn: Mary Clague, Building 820, Room 213, Gaithersburg, MD 20899. Information is also available via telephone: 301-975-4188, e-mail: mclague@nist.gov, or fax: 301-869-2751. Any request for information should include the NIST Docket number and title for the invention as indicated below.

SUPPLEMENTARY INFORMATION: NIST may enter into a Cooperative Research and Development Agreement (“CRADA”) with the licensee to perform further research on the invention for purposes of commercialization. The invention available for licensing is:

[Docket No.: 01-021US ]

Title: Method Of Minimizing The Short-Term Frequency Instability Of Laser-Pumped Atomic Clocks

Abstract: The invention proposes a method of optimizing the performance of laser-pumped atomic frequency references with respect to the laser detuning and other operating parameters. The invention establishes that the frequency reference short-term instability will be minimized when (a) the laser frequency is tuned nominally a few tens of MHz away from the center of the atomic absorption line; and (b) the external oscillator lock modulation frequency is set either far below or far above the inverse of the optical pumping time of the atoms. The exact parameters for the optimization depend on the particular experimental situation and can be roughly calculated using a theory developed to simulate the clock performance.

Dated: February 10, 2003.
Karen H. Brown,
Deputy Director.

[FR Doc. 03-3818 Filed 2-14-03; 8:45 am]

BILLING CODE 3510-13-P